DEPARTMENT OF JUSTICE

Drug Enforcement Administration

Manufacturer of Controlled Substances; Notice of Application; Correction

By Notice dated January 16, 2007, and published in the Federal Register on January 23, 2007, (72 FR 2907), the listing of controlled substances Tetrahydrocannabinols (7370), was incorrectly listed as a basic class of controlled substance listed in schedule II, for Organix Inc., 240 Salem Street, Woburn, Massachusetts 01801. The Notice of Application should be corrected to a basic class of controlled substance listed in schedule I.

Dated: March 8, 2007.
Joseph T. Rannazzisi,
Deputy Assistant Administrator, Office of Diversion Control, Drug Enforcement Administration.

[FR Doc. E7-5385 Filed 3-22-07; 8:45 am]

BILLING CODE 4410-09-P